DEPARTMENT OF TRANSPORTATION

Federal Aviation Administration

14 CFR Part 39

[Docket No. 99-CE-81-AD; Amendment 39-11752; AD 2000-11-04]

RIN 2120-AA64

Airworthiness Directives; Commander Aircraft Company Model 114TC Airplanes

AGENCY: Federal Aviation Administration, DOT.

ACTION: Final rule; request for comments.

SUMMARY: This amendment adopts a new airworthiness directive (AD) that applies to certain Commander Aircraft Company (Commander) Model 114TC airplanes. This AD requires you to replace the existing Aeroquip V-band exhaust clamp with a new clamp of improved design. This AD is the result of reports of this clamp failing on 4 of the affected airplanes. This clamp attaches the exhaust stack to the turbocharger. The actions specified in this AD are intended to prevent the exhaust stack from detaching from the turbocharger due to failure of the V-band exhaust clamp. This could result in the release of high temperature gases inside the engine compartment with a consequent airplane cabin fire.

DATES: This AD becomes effective on June 23, 2000.

The Director of the Federal Register approved the incorporation by reference of certain publications listed in the regulation as of June 23, 2000.

The Federal Aviation Administration (FAA) must receive any comments on this rule on or before July 28, 2000.

ADDRESSES: Submit comments in triplicate to FAA, Central Region, Office of the Regional Counsel, Attention: Rules Docket No. 99-CE-81-AD, 901 Locust, Room 506, Kansas City, Missouri 64106.

You may get the service information referenced in this AD from the Commander Aircraft Company, Wiley Post Airport Hangar 8, 7200 NW 63rd Street, Bethany, Oklahoma 73008; telephone: (405) 495-8080; facsimile: (405) 495-8383. You may examine this information at FAA, Central Region, Office of the Regional Counsel, Attention: Rules Docket No. 99-CE-81-AD, 901 Locust, Room 506, Kansas City, Missouri 64106; or at the Office of the Federal Register, 800 North Capitol Street, NW, suite 700, Washington, DC.

FOR FURTHER INFORMATION CONTACT: Alma Ramirez-Hodge, Aerospace Engineer, Airplane Certification Office, FAA, 2601 Meacham Boulevard, Fort Worth, Texas 76137; telephone: (817) 222-5147; facsimile: (817) 222-5960.

SUPPLEMENTARY INFORMATION:

Discussion

What events have caused this AD? The FAA has received four reports of failure of the Aeroquip V-band exhaust clamp (Aeroquip part number 00624-55677-340M or Lycoming alternate part number 40D21162-340M) on Commander Aircraft Company Model 114TC airplanes. The V-band exhaust clamp attaches the exhaust stack to the turbocharger.

What are the consequences if the condition is not corrected? The exhaust stack detaching from the turbocharger could result in the release of high temperature gases inside the engine compartment with a consequent airplane cabin fire.

Relevant Service Information

Is there service information that applies to this subject? Commander Aircraft Company has issued Service Bulletin No. SB-114-33A, dated May 9, 2000.

What are the provisions of this service bulletin? The service bulletin includes procedures for replacing the Aeroquip V-band exhaust clamp (Aeroquip part number 00624-55677-340M or Lycoming alternate part number 40D21162-340M) with a part of improved design (Aeroquip part number NH1009399-10).

The FAA's Determination and an Explanation of the Provisions of the AD

What has FAA decided? After examining the circumstances and reviewing all available information related to the incidents described above, including the relevant service information, FAA has determined that:

—The above-referenced unsafe condition exists or could develop on other Commander Model 114TC airplanes of the same type design;

—The actions specified in the previously-referenced service information should be accomplished on the affected airplanes; and

—AD action should be taken in order to prevent the exhaust stack from detaching from the turbocharger due to failure of the V-band exhaust clamp. This could result in the release of high temperature gases inside the engine compartment with a consequent airplane cabin fire.

What does this AD require? This AD requires you to accomplish the actions in Commander Aircraft Company Service Bulletin No. SB-114-33A, dated May 9, 2000.

Will I have the opportunity to comment prior to the issuance of the rule? Because the unsafe condition described in this document could result in the release of high temperature gases inside the engine compartment, FAA finds that notice and opportunity for public prior comment are impracticable. Therefore, good cause exists for making this amendment effective in less than 30 days.

Comments Invited

Although this action is in the form of a final rule and was not preceded by notice and opportunity for public comment, FAA invites comments on this rule. You may submit whatever written data, views, or arguments you choose. You need to include the rule's docket number and submit your comments in triplicate to the address specified under the caption ADDRESSES. The FAA will consider all comments received on or before the closing date. We may amend this rule in light of comments received. Factual information that supports your ideas and suggestions is extremely helpful in evaluating the effectiveness of the AD action and determining whether we need to take additional rulemaking action.

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

If you want us to acknowledge the receipt of your comments, you must include a self-addressed, stamped postcard. On the postcard, write “Comments to Docket No. 99-CE-81-AD.” We will date stamp and mail the postcard back to you.

Regulatory Impact

These regulations will not have a substantial direct effect on the States, on the relationship between the national Government and the States, or on the distribution of power and responsibilities among the various levels of government. Therefore, FAA has determined that this final rule does not have federalism implications under Executive Order 13132.

The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

2000-11-04 Commander Aircraft Company: Amendment 39-11752; Docket No. 99-CE-81-AD.

(a) What airplanes are affected by this AD? Model 114TC airplanes, serial numbers 20001 through 20027, certificated in any category.

(b) Who must comply with this AD? Anyone who wishes to operate any of the above airplanes on the U.S. Register must comply with this AD.

(c) What problem does this AD address? The actions required by this AD are intended to prevent the exhaust stack from detaching from the turbocharger due to failure of the V-band exhaust clamp. This could result in the release of high temperature gases inside the engine compartment with a consequent airplane cabin fire.

(d) What actions must I accomplish to address this problem? To address this problem, you must accomplish the following:

Action | Compliance time | Procedures
(1) Replace the Aeroquip V-band exhaust clamp (Aeroquip part number 00624-55677-340M or Lycoming alternate part number 40D21162-340M) with a part of improved design (Aeroquip part number NH1009399-10) | Accomplish this action within the next 25 hours time-in-service after June 23, 2000 (the effective date of this AD | Perform this action in accordance with the ACCOMPLISHMENT INSTRUCTIONS section of commander Aircraft Company Service Bulletin No. SB-114-33A, dated May 9, 2000.
(2) Do NOT install an Aeroquip V-band exhaust clamp (Aeroquip part number 00624-55677-340M or Lycoming alternate part number 40D21162-340M) on any affected airplane | As of June 23, 2000 (the effective date of this AD) | Not applicable.

(e) Can I comply with this AD in any other way? You may use an alternative method of compliance or adjust the compliance time if:

(1) Your alternative method of compliance provides an equivalent level of safety; and

(2) The Manager, Fort Worth Airplane Certification Office, approves your alternative. Submit your request through an FAA Principal Maintenance Inspector, who may add comments and then send it to the Manager.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact the Fort Worth Airplane Certification Office, 2601 Meacham Boulevard, Fort Worth, Texas 76193-0150; telephone: (817) 222-5147; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Commander Aircraft Company Service Bulletin No. SB-114-33A, dated May 9, 2000. The Director of the Federal Register approved this incorporation by reference under 5 U.S.C. 552(a) and 1 CFR part 51. You may get copies from the Commander Aircraft Company, Wiley Post Airport Hangar 8, 7200 NW 63rd Street, Bethany, Oklahoma 73008. You may look at copies at FAA, Central Region, Office of the Regional Counsel, 901 Locust, Room 506, Kansas City, Missouri, or at the Office of the Federal Register, 800 North Capitol Street, NW, suite 700, Washington, DC.

(i) When does this amendment become effective? This amendment becomes effective on June 23, 2000.

Issued in Kansas City, Missouri, on May 22, 2000.
Marvin R. Nuss,
Acting Manager, Small Airplane Directorate, Aircraft Certification Service.

[FR Doc. 00-13444 Filed 5-31-00; 8:45 am]

BILLING CODE 4910-13-P